ENVIRONMENTAL PROTECTION AGENCY

40 CFR Part 52

[EPA-R06-OAR-2018-0555; FRL-9995-52-Region 6]

Air Plan Approval; Texas; Revisions to Public Notice for Air Quality Permit Applications

AGENCY: Environmental Protection Agency (EPA).

ACTION: Final rule.

SUMMARY: Pursuant to the Federal Clean Air Act (CAA or the Act), the Environmental Protection Agency (EPA) is approving one revision to the Texas State Implementation Plan (SIP) submitted on July 9, 2018 to revise the public notice provisions for certain air quality permit applications. The EPA is also finalizing ministerial changes to the Code of Federal Regulations (CFR) to reflect recent EPA SIP approvals to the Texas SIP for public notice provisions for air quality permit applications.

DATES: This rule is effective on August 12, 2019.

ADDRESSES: The EPA has established a docket for this action under Docket ID No. EPA-R06-OAR-2018-0555. All documents in the docket are listed on the https://www.regulations.gov website. Although listed in the index, some information is not publicly available, e.g., Confidential Business Information or other information whose disclosure is restricted by statute. Certain other material, such as copyrighted material, is not placed on the internet and will be publicly available only in hard copy form. Publicly available docket materials are available either electronically through https://www.regulations.gov or in hard copy at the EPA Region 6 Office, 1201 Elm Street, Suite 500, Dallas, Texas 752270.

FOR FURTHER INFORMATION CONTACT: Elizabeth Layton, EPA Region 6 Office, Air Permits Section, 1201 Elm Street, Suite 500, Dallas, TX 75270, 214-665-2136, layton.elizabeth@epa.gov. To inspect the hard copy materials, please schedule an appointment with Ms. Elizabeth Layton or Mr. Bill Deese at 214-665-7253.

SUPPLEMENTARY INFORMATION: Throughout this document “we,” “us,” and “our” means the EPA.

I. Background

The background for this action is discussed in detail in our May 6, 2019 proposal (84 FR 19750). In that document we proposed to approve one revision to the Texas SIP revising the public notice provisions applicable to New Source Review (NSR) air quality air permit applications and ministerial changes to the CFR to reflect recent EPA SIP approvals for Texas public notice provisions for air quality permit applications. We did not receive any adverse comments regarding our proposal. We received one supportive comment from the Texas Commission on Environmental Quality supporting our proposal and concurring with EPA's determination that the revisions are consistent with the CAA and any other applicable Federal regulations. No changes were made as a result of this comment.

II. Final Action

We are approving one revision to the Texas SIP that revises NSR air permitting and public notice requirements. We have determined that the revisions adopted on May 9, 2018, and submitted on July 9, 2018, were developed in accordance with the CAA and EPA's regulations, policy and guidance for NSR permitting. Therefore, under section 110 of the Act, the EPA approves the following revisions to the Texas SIP submitted on July 9, 2018:

• Revisions to 30 TAC Section 39.411—Text of Public Notice;

• Revisions to 30 TAC Section 39.603—Newspaper Notice; and

• Revisions to 30 TAC Section 55.152—Public Comment Period.

The EPA is also approving ministerial changes to 40 CFR 52.2270(c) to reflect that 30 TAC Section 39.411(e)(11)(A)(v) adopted by the State December 7, 2016, was SIP-approved on May 9, 2018 (83 FR 21180). This section was subsequently renumbered in the July 9, 2018, submitted revisions to 30 TAC Section 39.411 and will therefore be SIP-approved as of the May 9, 2018 State adoption date.

III. Incorporation by Reference

In this rule, the EPA is finalizing regulatory text that includes incorporation by reference. In accordance with requirements of 1 CFR 51.5, the EPA is finalizing the incorporation by reference of the revisions to the Texas regulations as described in the Final Action section above. The EPA has made, and will continue to make, these materials generally available through www.regulations.gov and at the EPA Region 6 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated in the next update to the SIP compilation.

IV. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 10, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Carbon monoxide, Intergovernmental relations, Lead, Nitrogen dioxide, Ozone, Particulate matter, Reporting and recordkeeping requirements, Sulfur oxides, Volatile organic compounds.

Dated: July 8, 2019.
David Gray,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart SS—Texas

2. In § 52.2270(c), the table titled “EPA Approved Regulations in the Texas SIP” is amended by revising the entries for Sections 39.411, 39.603, and 55.152 to read as follows:

§ 52.2270 Identification of plan.

* * * * *

(c) * * *

EPA Approved Regulations in the Texas SIP
State citation | Title/subject | State approval/ submittal date | EPA approval date | Explanation
* * * * * * *
Chapter 39—Public Notice
Subchapter H—Applicability and General Provisions
* * * * * * *
Section 39.411 | Text of Public Notice | 5/9/2018 | 7/12/2019, [Insert Federal Register citation] | SIP includes 39.411(a), 39.411(e)(1)-(4)(A)(i) and (iii), (4)(B), (e)(5) introductory paragraph, (e)(5)(A), (e)(5)(B), (e)(6)-(9), (e)(10), (e)(11)(A)(i), (e)(11)(A)(iii)-(vi), (e)(11)(B)-(F), (e)(13), (e)(15), (e)(16), (f) introductory paragraph, (f)(1)-(8), (g), and (h).
* * * * * * *
Subchapter K—Public Notice of Air Quality Applications
* * * * * * *
Section 39.603 | Newspaper Notice | 5/9/2018 | 7/12/2019, [Insert Federal Register citation] |
* * * * * * *
Chapter 55—Requests for Reconsideration and Contested Case Hearings; Public Comment
Subchapter E—Public Comment and Public Meetings
* * * * * * *
Section 55.152 | Public Comment Period | 5/9/2018 | 7/12/2019, [Insert Federal Register citation] | SIP includes 55.152(a)(1), (a)(2), (a)(3), (a)(4), (a)(7), (a)(8) and (b).
* * * * * * *

* * * * *

[FR Doc. 2019-14839 Filed 7-11-19; 8:45 am]

BILLING CODE 6560-50-P